DEPARTMENT OF ENERGY

Notice of Open Meeting

AGENCY: Department of Energy.

ACTION: Notice of open meeting.

SUMMARY: This notice announces a teleconference call of the Secretary of Energy Advisory Board (SEAB). SEAB was reestablished pursuant to the Federal Advisory Committee Act (Pub. L. 92-463, 86 Stat. 770) (the Act). This notice is provided in accordance with the Act.

DATES: Friday, August 18, 2014 from 2:00 p.m. to 2:45 p.m. (ET). To receive the call-in number and passcode, please contact the Board's Deputy Designated Federal Officer (DFO) at the address or email listed below.

FOR FURTHER INFORMATION CONTACT: Corey Williams-Allen, Deputy Designated Federal Officer, U.S. Department of Energy, 1000 Independence Avenue SW., Washington, DC 20585; or email: seab@hq.doe.gov.

SUPPLEMENTARY INFORMATION:

Background

The Board was established to provide advice and recommendations to the Secretary on the Department's basic and applied research, economic and national security policy, educational issues, operational issues, and other activities as directed by the Secretary.

Purpose of the Meeting

This meeting is a public meeting of the Board.

Tentative Agenda

The meeting will start at 2:00 p.m. on August 18, 2014. The tentative meeting agenda includes updates on the work of the SEAB Next Generation High Performance Computing Task Force and comments from the public. The meeting will conclude at 2:45 p.m. Agenda updates and a draft of the report will be posted on the SEAB Web site: www.energy.gov/seab.

Public Participation

The meeting is open to the public. Written statements may be filed with the Board either before or after the meeting. Members of the public who wish to make oral statements pertaining to agenda items should contact Corey Williams-Allen at the address or email address listed above. Requests to make oral comments must be received five days prior to the meeting. The Designated Federal Officer (or designee) is empowered to conduct the meeting in a fashion that will facilitate the orderly conduct of business.

Those not able to join the teleconference call or who have insufficient time to address the committee are invited to send a written statement to Corey Williams-Allen, U.S. Department of Energy, 1000 Independence Avenue SW., Washington, DC 20585, or email to: seab@hq.doe.gov.

Minutes

The minutes of the meeting will be available by contacting Mr. Williams-Allen. He may be reached at the postal address or email address above, or by visiting SEAB's Web site at www.energy.gov/seab.

Issued in Washington, DC on July 29, 2014.
LaTanya R. Butler,
Deputy Committee Management Officer.

[FR Doc. 2014-18345 Filed 8-1-14; 8:45 am]

BILLING CODE 6450-01-P